DEPARTMENT OF TRANSPORTATION

Pipeline and Hazardous Materials Safety Administration

[Docket ID PHMSA-2010-0097]

Pipeline Safety: Workshop on Guidelines for Integrity Assessment of Cased Pipe

AGENCY: Pipeline and Hazardous Materials Safety Administration (PHMSA), DOT.

ACTION: Notice of workshop.

SUMMARY: PHMSA is holding a workshop on the integrity assessment of cased pipe for pipelines subject to integrity management program requirements. The workshop is intended to discuss PHMSA's recently issued guidance “Guidelines for Integrity Assessment of Cased Pipe in Gas Transmission Pipelines” and related Frequently Asked Questions (FAQs). The latest guidelines and FAQs are available online at: http://primis.phmsa.dot.gov/gasimp/documents.htm. The workshop focus will be for the public, pipeline operators, trade associations, and others to address ideas and concerns with using External Corrosion Direct Assessment integrity evaluation methods and use of other technologies to assess pipelines in casings located within high consequence areas.

The workshop will be held at the Sheraton Inner Harbor, 300 South Charles Street, Baltimore, MD 21201 on April 28, 2010.

ADDRESSES: The April 28, 2010, cased pipe workshop will be held at the Sheraton Inner Harbor, 300 South Charles Street, Baltimore, MD 21201. The meeting room will be posted at the hotel on the day of the workshop.

FOR FURTHER INFORMATION CONTACT: Max Kieba at (202) 493-0595, or by e-mail at max.kieba@dot.gov.

SUPPLEMENTARY INFORMATION: Registration: Members of the public may attend this free workshop. The workshop will not be webcast. Hotel reservations under the “U.S. Department of Transportation” room block for the night of April 27, 2010, can be made by contacting the hotel directly at 1-800-325-3535. A daily base rate of $161.00 is available for the night of April 27, 2010. For this rate, room reservations must be made by April 13, 2010.

To help assure that adequate space is provided, all attendees are encouraged to register for the workshop at: https://primis.phmsa.dot.gov/meetings/MtgHome.mtg?mtg=64. Name badge pick-up and on-site registration will be available starting at 7:30 a.m. with the workshop taking place from 8:30 a.m. until approximately 5 p.m. Refer to the meeting Web site for updated agenda and times at http://primis.phmsa.dot.gov/meetings/MtgHome.mtg?mtg=64. All workshop presentations will be available on the meeting Web site within 30 days following the workshop.

Comments: Members of the public may also submit written comments, either before or after the workshop. Comments should reference Docket ID PHMSA-2010-0097. Comments may be submitted in the following ways:

• E-Gov Web Site: http://www.regulations.gov. This site allows the public to enter comments on any Federal Register notice issued by any agency. Follow the instructions for submitting comments.

• Fax: 1-202-493-2251.

• Mail: Docket Management System, U.S. Department of Transportation, 1200 New Jersey Avenue, SE., Room W12-140, Washington, DC 20590.

• Hand Delivery: DOT Docket Management System, Room W12-140, on the ground floor of the West Building, 1200 New Jersey Avenue, SE., Washington, DC between 9 a.m. and 5 p.m., Monday through Friday, except Federal holidays.

Instructions: Identify the Docket ID at the beginning of your comments. If you submit your comments by mail, please submit two copies. If you wish to receive confirmation that PHMSA has received your comments, include a self-addressed stamped postcard. Internet users may submit comments at http://www.regulations.gov. Note: Comments will be posted without changes or edits to http://www.regulations.gov including any personal information provided. Please see the Privacy Act heading in the Regulatory Analyses and Notices section of the SUPPLEMENTARY INFORMATION for additional information.

Privacy Act Statement: Anyone may search the electronic form of all comments received for any of our dockets. You may review DOT's complete Privacy Act Statement in the Federal Register published on April 11, 2000 (65 FR 19477).

Information on Services for Individuals with Disabilities: For information on facilities or services for individuals with disabilities, or to request special assistance at the meeting, please contact Max Kieba at (202) 493-0595, or by e-mail at max.kieba@dot.gov by April 15, 2010.

Issue Description: Under section 14 of the Pipeline Safety and Improvement Act of 2002 (Pub. L. 107-355) and the regulations issued thereunder, all gas transmission pipelines located in areas that could affect high consequence areas (HCAs) must have an integrity management program (IMP). One aspect of an integrity management program is that each operator of a gas transmission pipeline located in an area that could affect a HCA must conduct an integrity assessment by an approved method no later than December 17, 2012, and must periodically reassess the pipeline at least every seven years thereafter.

In response to Congressional mandates, PHMSA promulgated integrity management regulations to implement this and other IMP requirements now contained in 49 CFR 192, Subpart O. These regulations requiring assessments apply to all pipe in a HCA, including cased pipe.

Operators reported that they were encountering technical challenges in conducting External Corrosion Direct Assessment (ECDA) on cased pipe and industry requested more detailed guidance from PHMSA. PHMSA responded by committing to hold a workshop to address the issues and to follow up with stakeholders to help address the challenges cased crossing pose. That workshop was held in July 2008 (http://primis.phmsa.dot.gov/meetings/MtgHome.mtg?mtg=64).

Following the workshop, PHMSA worked with a group of state regulators, representatives from industry, trade associations, and other stakeholders to develop guidelines for performing ECDA of gas transmission pipe inside casings (http://primis.phmsa.dot.gov/gasimp/ccCASQAT.htm). These guidelines are intended to assist pipeline operators in complying with 49 CFR 192, Subpart O for cased pipe in HCAs. The guidelines incorporate some of the input developed by this work group, but have been updated in some areas to conform to the integrity management regulations and statutory requirements.

The guidelines and FAQs are largely based on the work of this group and state regulators, and provide guidelines for pipeline operators to consider when implementing integrity management requirements for cased pipe. The casing guidelines should assist operators in cases where other integrity methods are not viable due to the pipeline being unpiggable for reasons such as lateral location and customer outage requirements.

Preliminary Workshop Agenda

The April 28, 2010 workshop will include:

(1) Briefing on the Guidelines for Integrity Assessment of Cased Pipe.

(2) Briefing on FAQs.

(3) Comments from Stakeholders.

(4) Question and Answer Forum.

Refer to the meeting Web site for a more detailed agenda: http://primis.phmsa.dot.gov/meetings/MtgHome.mtg?mtg=64. PHMSA encourages all interested persons to attend.

Issued in Washington, DC, on March 24, 2010.
Steven Fischer,
Director, Program Development.

[FR Doc. 2010-7028 Filed 3-26-10; 8:45 am]

BILLING CODE 4910-60-P